DEPARTMENT OF TRANSPORTATION

Federal Motor Carrier Safety Administration

[Docket No. FMCSA-2004-19741]

Notice Requesting Comment on Renewing Approval of an Information Collection: OMB Control No. 2126-0019 (Application for Certificate of Registration for Foreign Motor Carriers and Foreign Motor Private Carriers)

AGENCY: Federal Motor Carrier Safety Administration (FMCSA), DOT.

ACTION: Notice; request for comments.

SUMMARY: This notice announces FMCSA's plans to request the Office of Management and Budget (OMB) to renew its approval of the information collection described below. This information collection requires Mexico-domiciled for-hire and private motor carriers who wish to register to transport property only within municipalities in the United States on the U.S.-Mexico international border or within the commercial zones of such municipalities to file Form OP-2. Under the Paperwork Reduction Act, the FMCSA is required to publish this notice.

DATES: Please submit your comments by March 14, 2005.

ADDRESSES: Mail or hand deliver comments to the U.S. Department of Transportation, Dockets Management Facility, Room PL-401, 400 Seventh Street, SW., Washington, DC 20590, or submit electronically at http://dmses.dot.gov/submit. Be sure to include the docket number appearing in the heading of this document on your comment. All comments received will be available for examination and copying at the above address from 9 a.m. to 5 p.m., e.t., Monday through Friday, except Federal holidays. If you would like to be notified when your comment is received, you must include a self-addressed, stamped postcard or you may print the acknowledgment page that appears after submitting comments electronically.

FOR FURTHER INFORMATION CONTACT: Ms. Joy Dunlap (202-493-0219), Information Systems Division (MC-RIS), Federal Motor Carrier Safety Administration, U.S. Department of Transportation, 400 Seventh Street, SW., Washington, DC 20590. Office hours are from 7:30 a.m. to 4 p.m., EST., Monday through Friday, except Federal holidays.

SUPPLEMENTARY INFORMATION: Title: Application for Certificate of Registration for Foreign Motor Carriers and Foreign Motor Private Carriers.

OMB Control Number: 2126-0019.

Background: Title 49 U.S.C. 13902(c) contains basic licensing procedures for registering foreign motor carriers to operate across the Mexico-U.S. border into the United States. Title 49 CFR part 368 contains related regulations. The FMCSA carries out this registration program under authority delegated by the Secretary of Transportation. Foreign (Mexico-based) motor carriers use Form OP-2 to apply for registration authority at the FMCSA. The form requests information on the motor carrier's name, address, U.S. DOT Number, form of business (e.g., corporation, sole proprietorship, partnership), locations where the applicant plans to operate, types of registration requested (e.g., for-hire motor carrier, motor private carrier), insurance, safety certifications, household goods arbitration certifications, and compliance certifications.

Respondents: Foreign (Mexico-based) motor carriers.

Average Burden per Response: 4 hours.

Estimated Total Annual Burden: 8,000 hours (2,000 foreign (Mexico-based) motor carriers × 4 hours = 8,000 hours).

Public Comments Invited: Your comments are particularly invited on whether the collection of information is necessary for the FMCSA to meet its goal of reducing truck crashes, including whether the information is useful to this goal; the accuracy of the estimate of the burden of the information collection; ways to enhance the quality, utility and clarity of the information collected; and ways to minimize the burden of the collection of information on respondents, including the use of automated collection techniques or other forms of information technology.

Electronic Access and Filing: You may submit or retrieve comments online through the Docket Management System (DMS) at http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the Web site. You may also download an electronic copy of this document from the DOT Docket Management System on the Internet at http://dms.dot.gov/search.htm. Please include the docket number appearing in the heading of this document.

Authority: The Paperwork Reduction Act of 1995, 44 U.S.C. Chapter 35, as amended; 49 U.S.C. 13902(c); and 49 CFR 1.73.

Issued: January 3, 2005.
Annette M. Sandberg,
Administrator.

[FR Doc. 05-559 Filed 1-11-05; 8:45 am]

BILLING CODE 4910-EX-P